DEPARTMENT OF AGRICULTURE

Animal and Plant Health Inspection Service

9 CFR Part 93

[Docket No. APHIS-2006-0020]

States Approved To Receive Stallions and Mares From CEM-Affected Regions; Indiana

AGENCY: Animal and Plant Health Inspection Service, USDA.

ACTION: Direct final rule.

SUMMARY: We are amending the animal importation regulations by adding Indiana to the lists of States approved to receive certain stallions and mares imported into the United States from regions affected with contagious equine metritis (CEM). We are taking this action because Indiana has entered into an agreement with the Administrator of the Animal and Plant Health Inspection Service to enforce its State laws and regulations to control CEM and to require inspection, treatment, and testing of horses, as required by Federal regulations, to further ensure the horses' freedom from CEM. This action relieves unnecessary restrictions on the importation of mares and stallions from regions where CEM exists.

DATES: This rule will be effective on June 26, 2006, unless we receive written adverse comments or written notice of intent to submit adverse comments on or before May 30, 2006. If we receive written adverse comments or written notice of intent to submit adverse comments, we will publish a document in the Federal Register withdrawing this rule before the effective date.

ADDRESSES: You may submit comments by either of the following methods:

• Federal eRulemaking Portal: Go to http://www.regulations.gov and, in the lower “Search Regulations and Federal Actions” box, select “Animal and Plant Health Inspection Service” from the agency drop-down menu, then click on “Submit.” In the Docket ID column, select APHIS-2006-0020 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0020, Regulatory Analysis and Development, PPD, APHIS, Station 3A-03.8, 4700 River Road Unit 118, Riverdale, MD 20737-1238. Please state that your comment refers to Docket No. APHIS-2006-0020.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Freeda E. Isaac, Senior Staff Veterinarian, National Center for Import and Export, VS, APHIS, 4700 River Road Unit 39, Riverdale, MD 20737-1231; (301) 734-8364.

SUPPLEMENTARY INFORMATION:

Background

The animal importation regulations in 9 CFR part 93 (referred to below as the regulations), among other things, prohibit or restrict the importation of certain animals, including horses, into the United States to protect U.S. livestock from communicable diseases.

In § 93.301, paragraph (c)(1) prohibits the importation of horses into the United States from certain regions where contagious equine metritis (CEM) exists. Paragraph (c)(2) lists categories of horses that are excepted from this prohibition, including, in § 93.301(c)(2)(vi), horses over 731 days of age imported for permanent entry if the horses meet the requirements of § 93.301(e).

One of the requirements in § 93.301(e) is that mares and stallions over 731 days old imported for permanent entry from regions where CEM exists must be consigned to States listed in § 93.301(h)(6), for stallions, or in § 93.301(h)(7), for mares. The Administrator of the Animal and Plant Health Inspection Service (APHIS) has approved these States to receive stallions or mares over 731 days of age from regions where CEM exists because each State has entered into a written agreement with the Administrator to enforce State laws and regulations to control CEM, and each State has agreed to quarantine, test, and treat stallions and mares over 731 days of age from any region where CEM exists in accordance with § 93.301(e).

Indiana has entered into a written agreement with the Administrator of APHIS and has agreed to comply with all of the requirements in § 93.301(e) for importing stallions and mares over 731 days old from regions where CEM exists. Therefore, this direct final rule will add Indiana to the lists of States in § 93.301(h)(6) and (h)(7) approved to receive certain stallions and mares imported into the United States from regions where CEM exists.

Dates

We are publishing this rule without a prior proposal because we view this action as noncontroversial and anticipate no adverse public comments. This rule will be effective, as published in this document, on June 26, 2006, unless we receive written adverse comments or written notice of intent to submit adverse comments by May 30, 2006.

Adverse comments are comments that suggest the rule should not be adopted or that suggest the rule should be changed.

If we receive written adverse comments or written notice of intent to submit adverse comments, we will publish a document in the Federal Register withdrawing this rule before the effective date. We will then publish a proposed rule for public comment.

As discussed above, if we receive no written adverse comments or written notice of intent to submit adverse comments within 30 days of publication of this direct final rule, this direct final rule will become effective 60 days following its publication. We will publish a document in the Federal Register before the effective date of this direct final rule, confirming that it is effective on the date indicated in this document.

Executive Order 12866 and Regulatory Flexibility Act

This rule has been reviewed under Executive Order 12866. For this action, the Office of Management and Budget has waived its review under Executive Order 12866.

We are amending the animal importation regulations by adding Indiana to the lists of States approved to receive certain stallions and mares imported into the United States from regions affected with CEM. We are taking this action because Indiana has entered into an agreement with the Administrator of APHIS to enforce its State laws and regulations to control CEM and to require inspection, treatment, and testing of horses, as required by Federal regulations, to further ensure the horses' freedom from CEM. This action relieves unnecessary restrictions on the importation of mares and stallions from regions where CEM exists.

The United States imported a total of 41,065 horses in 2004. Nearly 82 percent of horses imported were from Canada (76 percent) and Mexico (6 percent). Of the total imports, 35,372 were from non-CEM countries and the remaining 5,693 were from CEM countries. The proportion of pure-bred horses was much smaller than other horses. Of the above total, 2,297 were purebred breeding horses. Only 265 purebred breeding horses were imported from CEM-affected countries. However, horses supplied by CEM-affected countries are generally highly valued. In 2004, for example, the average value of a purebred breeding horse imported from a CEM-affected region was $42,600, whereas the average value of a purebred breeding horse imported from non-CEM countries was $4,720.

The rule will allow Indiana horse operations to import stallions and mares directly from CEM-affected regions, whereas at present they must be imported and undergo post-entry testing and treatment in another, currently approved State. There are now 21 States approved to receive stallions and mares from CEM-affected regions. Thus, Indiana would join those 21 States as a potential destination for purebred breeding horses imported from CEM-affected regions. This rule would affect operations raising horses and other equines (North American Industry Classification System (NAICS) code 112920) and operations owning racehorses (NAICS code 711219). The main effect would be on those entities importing horses from CEM-affected regions. It is not known how many such firms there may be, but it is reasonable to assume that at least some of them may be small entities. The Small Business Administration classifies operations engaged in raising horses and other equines as small entities if their annual receipts are not more than $750,000. Operations owning race horses are considered small if annual gross receipts are less than $6.5 million. According to the 2002 Census of Agriculture, there were 14,500 horse farms in Indiana that year, 3,492 of which sold 12,397 horses that had a total value of $34 million. About 5 percent are owners of racehorses. These data imply an average income per farm from horse sales of about $2,750. Over 99 percent of operations raising horses and owning racehorses are considered to be small. Entities that may be affected by the rule are principally small businesses, but the impact will not be significant.

This rule is expected to benefit small and large horse entities in Indiana through trade opportunities already provided to States currently approved to receive horses from CEM-affected regions. Horses from CEM-affected regions will be allowed to be moved directly into Indiana, thereby benefitting Indiana importers through lower transport costs and reduced paperwork burdens. Mainly, breeding horse importers in Indiana would benefit from this rule. Because the pool of imported horses is a very small fraction of the domestic total and Indiana importers are expected to compete with importers in 21 other States, any net beneficial impact would be very small, especially when compared to the value of the imported horses.

Under these circumstances, the Administrator of the Animal and Plant Health Inspection Service has determined that this action will not have a significant economic impact on a substantial number of small entities.

Executive Order 12988

This rule has been reviewed under Executive Order 12988, Civil Justice Reform. This rule: (1) Preempts all State and local laws and regulations that are inconsistent with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 9 CFR Part 93

Animal diseases, Imports, Livestock, Poultry and poultry products, Quarantine, Reporting and recordkeeping requirements.

Accordingly, 9 CFR part 93 is amended as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622 and 8301-8317; 21 U.S.C. 136 and 136a; 31 U.S.C. 9701; 7 CFR 2.22, 2.80, and 371.4.

§ 93.301 [Amended]

2. Section 93.301 is amended as follows:

a. In paragraph (h)(6), by adding, in alphabetical order, “The State of Indiana”.

b. In paragraph (h)(7), by adding, in alphabetical order, “The State of Indiana”.

Done in Washington, DC, this 21st day of April 2006.
Kevin Shea,
Acting Administrator, Animal and Plant Health Inspection Service.

[FR Doc. 06-3985 Filed 4-26-06; 8:45 am]

BILLING CODE 3410-34-P